INTERNATIONAL TRADE COMMISSION

[Inv. No. 731-TA-1472 (Final)]

Difluoromethane (R-32) From China; Cancellation of Hearing for Final Phase Anti-Dumping Duty Investigation

AGENCY: United States International Trade Commission.

ACTION: Notice.

DATES: Effective Date: January 12, 2021.

FOR FURTHER INFORMATION CONTACT: Ahdia Bavari ((202) 205-3191), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: Effective August 27, 2020, the Commission published its schedule for the final phase of this investigation (85 FR 55688, September 9, 2020), further revised effective October 19, 2020 (85 FR 68566, October 23, 2020). Counsel for Arkema filed its request to appear at the hearing on January 8, 2021. No other parties submitted a request to appear at the hearing. On January 12, 2021, counsel withdrew their request to appear at the hearing. Counsel indicated a willingness to submit written responses to any Commission questions in lieu of an actual hearing. Consequently, the public hearing in connection with this investigation, scheduled to begin at 9:30 a.m. on January 14, 2021, is cancelled. Parties to this investigation should respond to any written questions posed by the Commission in their posthearing briefs, which are due to be filed on January 21, 2021.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: January 14, 2021.
Lisa Barton,
Secretary to the Commission.

[FR Doc. 2021-01271 Filed 1-21-21; 8:45 am]

BILLING CODE 7020-02-P